NATIONAL SCIENCE FOUNDATION

Advisory Committee for Social, Behavioral and Economic Sciences Notice of Meeting

In accordance with the Federal Advisory Committee Act (Pub. L. 92- 463, as amended), the National Science Foundation (NSF) announces the following meeting:

Name and Committee Code: Advisory Committee for Social, Behavioral and Economic Sciences (#1171).

Date and Time: December 2-3, 2021; 12:00 p.m.-5:00 p.m. (ET)

Place: NSF, 2415 Eisenhower Avenue, Alexandria, VA 22314. Virtual AC Meeting via Zoom. Advance registration is required: SBE Fall 2021 Advisory Committee Meeting Registration Link.

Type of Meeting: Open.

Contact Person: Dr. Deborah Olster, Office of the Assistant Director, Directorate for Social, Behavioral and Economic Sciences; National Science Foundation, 2415 Eisenhower Avenue, Alexandria, VA 22314; Telephone: (703) 292-8700.

Summary of Minutes: Will be available on the SBE advisory committee website at: https://www.nsf.gov/sbe/advisory.jsp.

Purpose of Meeting: To provide advice and recommendations to the National Science Foundation on major goals and policies pertaining to Social, Behavioral and Economic Sciences Directorate (SBE) programs and activities.

Agenda Items

• Welcome, Introductions, Approval of Previous Advisory Committee (AC) Meeting Summary, Preview of Agenda

• Directorate for Social, Behavioral and Economic Sciences (SBE) Update

• Division of Social and Economic Sciences Committee of Visitors

• NSF Activities Related to Climate Change

• Interagency Subcommittee on Open Science

• America's Data Hub

• Translation, Innovation and Partnerships

• New AC Member Presentation

• National Institutes of Health/Centers for Disease Control and Prevention Activities

• COVID-19 Research Update

• Meeting with NSF Leadership

• Directorates for Social, Behavioral and Economic Sciences and for Computer and Information Sciences and Engineering (CISE): Collaborative Opportunities

• Research Infrastructure in the Social, Behavioral and Economic Sciences

• SBE AC Subcommittees

• Wrap-up, Assignments and Closing Remarks

Dated: November 1, 2021.
Crystal Robinson,
Committee Management Officer.

[FR Doc. 2021-24180 Filed 11-4-21; 8:45 am]

BILLING CODE 7555-01-P